DEPARTMENT OF ENERGY

Federal Energy Regulatory Commission

[Project No. 2197-109]

Alcoa Power Generating Inc., Cube Yadkin Generation LLC; Notice of Application for Transfer of License and Soliciting Comments, Motions To Intervene, and Protests

On July 25, 2016, Alcoa Power Generating Inc. (transferor) and Cube Yadkin Generation LLC (transferee) filed an application for the transfer of license of the Yadkin Hydroelectric Project No. 2197. The project is located on the Yadkin River in Stanly, Montgomery, Davidson, and Rowan counties, North Carolina. The project does not occupy federal lands.

The applicants seek Commission approval to transfer the license for the Yadkin Hydroelectric Project from the transferor to the transferee.

Applicants Contact: For transferor: Ms. Coralyn M. Benhart, Esq., Alcoa Inc., 201 Isabella Street, 6E04, Pittsburgh, PA 15212-5858, Phone: 412-553-4237, Email: Coralyn.Benhart@alcoa.com and Mr. David R. Poe, Bracewell LLP, 2001 M Street NW., Suite 900, Washington, DC 20036, Phone: 202-828-5800, Email: dave.poe@bracewelllaw.com. For Transferee: Mr. Eli W.L. Hopson, Cube Hydro Partners, LLC, 2 Bethesda Metro Center, Suite 1330, Bethesda, MD 20814, Phone: 240-482-2714, Email: ehopson@cubehydro.com and Ms. Julia S. Wood and Ms. Sharon L. White, Van Ness Feldman, LLP, 1050 Thomas Jefferson Street NW., Seventh Floor, Washington, DC 20007, Phone: 202-298-1800, Email: jsw@vnf.com and slw@vnf.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2197-109.

Dated: August 1, 2016.
Nathaniel J. Davis, Sr.,
Deputy Secretary.

[FR Doc. 2016-19081 Filed 8-10-16; 8:45 am]

BILLING CODE 6717-01-P